DEPARTMENT OF LABOR

Employment and Training Administration

[TA-W-83,154]

Polyone Designed Structures and Solutions LLC, a Subsidiary of Polyone Corporation, Donora, Pennsylvania; Notice of Affirmative Determination Regarding Application for Reconsideration

By application dated December 2, 2013, Teamsters Local No. 205 requested administrative reconsideration of the negative determination regarding workers' eligibility to apply for Trade Adjustment Assistance (TAA) applicable to workers and former workers of Polyone Designed Structures and Solutions LLC, a subsidiary of Polyone Corporation, Donora, Pennsylvania (subject firm). The determination was issued on November 5, 2013. The Department's Notice of determination was published in the Federal Register on November 26, 2013 (78 FR 70581-70583). Workers at the subject firm were engaged in activities related to the production of color additives and inks.

The negative determination was based on the Department's findings that with respect to Section 222(a)(2)(A)(ii) of the Act, imports of articles like or directly competitive with color additives and inks have not increased in 2011, 2012 or during the period of January through September 2013.

With respect to Section 222(a)(2)(B) of the Act, the investigation revealed that the firm has not shifted the production of articles like or directly competitive with color additives and inks to a foreign country or acquired like or directly competitive articles from a foreign country. Rather, the investigation confirmed that production is being shifted from the Donora, Pennsylvania facility to other facilities within the United States.

With respect to Section 222(b)(2) of the Act, the investigation revealed that the firm is not a Supplier or Downstream Producer to a firm that employed a group of workers who received a certification of eligibility under Section 222(a) of the Act, 19 U.S.C. 2272(a).

Finally, the group eligibility requirements under Section 222(e) of the Act have not been satisfied because the workers' firm has not been publicly identified by name by the International Trade Commission as a member of a domestic industry in an investigation resulting in an affirmative finding of serious injury, market disruption, or material injury, or threat thereof.

The request for reconsideration alleges that there is “additional evidence of the anticipated shift/transfer of equipment and operations to a foreign country”. The request for reconsideration also alleges that production has shifted to Mexico and China. The request for reconsideration also includes additional attachments, including documentation of products that are allegedly produced in Mexico.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 10th day of January, 2014.
Michael W. Jaffe,
Certifying Officer, Office of Trade Adjustment Assistance.

[FR Doc. 2014-01541 Filed 1-27-14; 8:45 am]

BILLING CODE 4510-FN-P